COMMITTEE FOR PURCHASE FROM PEOPLE WHO ARE BLIND OR SEVERELY DISABLED

Correction of Notice of Deletion

In the document appearing on page 3782, FR Doc E7-1271, Procurement List Additions and Deletions, in the issue of Friday, January 26, 2007, in the first column, the Committee published deletion of a service for Grounds Maintenance, Marine Corps Air Station, San Diego, CA. This notice corrects that deletion of the service to read as follows: for Grounds Maintenance, Marine Corps Air Station, Bachelors Quarters Only, San Diego, CA. The other deletions announced in the Notice remain the same. The effective date of February 25, 2007 remains the same.

Sheryl D. Kennerly,
Director, Information Management.

[FR Doc. E7-3130 Filed 2-22-07; 8:45 am]

BILLING CODE 6353-01-P